DEPARTMENT OF HEALTH AND HUMAN SERVICES

Administration for Community Living

Request for Information: Family Caregiving Advisory Council

AGENCY: Administration for Community Living, HHS.

ACTION: Notice.

SUMMARY: The Administrator of the Administration for Community Living and the Family Caregiving Advisory Council seek information to be used in the development of the Initial Report, the Family Caregiving Strategy and public listening sessions being planned for 2020.

DATES: Information must be submitted by 11:59 p.m., ESTastern, February 7, 2020.

ADDRESSES: Comments on the request for information must be submitted online at: https://acl.gov/form/public-input-raise.

SUPPLEMENTARY INFORMATION: The Administration for Community Living (ACL) is requesting information to: (1) Assist the Family Caregiving Advisory Council (FCAC) in the formulation of goals, objectives and recommendations in support of the development of the Initial Report and the Family Caregiving Strategy (the Strategy); and (2) inform the convening of public listening sessions. The Recognize, Assist, Inform, Support and Engage (RAISE) Family Caregivers Act of 2017 requires that the Secretary (of HHS) establish a process for public input to inform the development and updating of the Strategy, including a process to submit recommendations to the FCAC and provide public input on the same.

Family caregiving crosses racial, ethnic, socioeconomic, and cultural boundaries. It affects those in rural and urban settings and can span generations in a single household. A robust national strategy to support America's caregivers must take into consideration not only caregivers of older adults, but also those facing long-term care and respite care needs for those of any age resulting from any serious illnesses, conditions or disabilities. The strategy should also address the needs and considerations of caregivers of persons with Alzheimer's disease or a related dementia and people with intellectual or developmental disabilities.

Public Input

Through this RFI, ACL is seeking input from individuals and organizations that capture the breadth of the family caregiving experience. Specifically, we would like to learn from you based on your experience about challenges faced by family caregivers. In this regard, please keep in mind the following:

• All submissions will be considered and reviewed by the Family Caregiving Advisory Council.

• The Council seeks recommendations and actions to optimize solutions for family caregivers for inclusion in the National Strategy. (We may not be able to include all recommendations.)

• If you have multiple needs, concerns and/or recommendations, you may make multiple submissions.

• A pressing family caregiving need or concern is something you feel requires consideration for inclusion in the Strategy.

• A recommendation proposes a solution to the identified need/concern.

• A challenge is a categorization of the recommendation that may be, but not limited to: General, access, finance, health, and other. To the extent possible, please categorize your recommendation as follows: Greater adoption of person/family-centered care; assessment; service planning and/or delivery; care transitions/coordination; information, education, referral, training and advance planning; respite options; financial security; workplace issues; and/or other.

Submission Questions

1. A pressing family caregiving need/concern I would like to see addressed is:

2. I would like to offer this specific recommendation to address my need/concern: The recommendation addresses needed actions that pertain to:

Please Note: This RFI is being issued for information and planning purposes only. It should not be construed as a solicitation or an obligation on the part of the federal government or the Administration for Community Living (ACL). ACL does not intend to issue any grant or contract awards based on responses to this invitation, or to otherwise pay for the preparation of any information submitted or for the government's use of such information. ACL is not authorized to receive personally identifiable information (PII) through this RFI other than the contact information of the person submitting the information. Please do not include any PII in your submission. For example,F do not include names, addresses, phone or Social Security numbers of any individuals. We will immediately delete and not review responses that contain PII.

How the Information Will Be Used

ACL and the FCAC are planning for the Council's future activities, including the preparation of an Initial Report and the Family Caregiving Strategy. Additionally, ACL is developing a series of public listening sessions starting in calendar year 2020 as a way to engage with members of the public, families and family caregivers, stakeholders and other individuals and entities with an interest in understanding and supporting the multi-faceted needs of family caregivers across the age and disability spectrum. The information gathered through this RFI will be used to inform each of these activities and seek feedback from the public where/when appropriate.

Background

The RAISE Family Caregivers Act was signed into law on January 22, 2018. The RAISE Act requires the Secretary of HHS to promote improvement of the Federal, State, and community systems that support family caregivers. The two primary objectives of the RAISE Act are to:

1. Establish a national Family Caregiving Strategy with recommendations for ensuring person- and family-centered care, assessment and service planning, information on accessing hospice and palliative care, respite options, financial security and workplace issues, and delivering services in an effective and efficient manner; and

2. Establish a Family Caregiving Advisory Council of Federal and non-Federal representatives to provide recommendations and identify best practices to recognize and support family caregivers.

Public input is a key expectation of the RAISE Act. This RFI is the first opportunity for ACL to ensure that the activities and products of the FCAC are inclusive of and responsive to, the needs and expectations of a range of stakeholders with an interest in supporting family caregivers.

How To Submit a Response to This RFI

Comments should be submitted online at: https://acl.gov/form/public-input-raise.

Submission Due Date

To be assured consideration, all responses to this RFI must be received by 5:00 p.m., EST on February 7, 2020.

For Further Information

If you have questions about this request, please email them to RAISEAct@acl.hhs.gov. This is a resource mailbox established to receive public input for the RAISE Act, and should not be used to request information beyond the scope of this public input opportunity.

Dated: December 2, 2019.
Lance Robertson,
Administrator and Assistant Secretary for Aging.

[FR Doc. 2019-26438 Filed 12-6-19; 8:45 am]

BILLING CODE 4154-01-P